FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Best International Shipping, Inc., 129 Selandia Lane, Carson, CA 90746. Officers: Eung-Hee Cho, Secretary/C.F.O., (Qualifying Individual), Yoon Jung Cho, President.

American Transport Logistics, Inc., 12 Blackfoot Drive, Manalapan, NJ 07726. Officer: Isaac M. Eddi, Director, (Qualifying Individual).

Apex Maritime Co. (LAX), Inc., 20418 East Walnut Drive North, Walnut, CA 91789. Officer: Vicky Cheung, President, (Qualifying Individual).

Non-Vessel Operating Common Carrier and Ocean Freight Forwarder Transportation Intermediary Applicant:

Ni Midstar, LLC, 8228 50th Street, SW., Byron, MN 55920. Officers: Chris Heinz, President, (Qualifying Individual), Kazuo Hondo, Director.

Ocean Freight Forwarder—Ocean Transportation Intermediary Applicant:

Maharlika Forwarders Travel & Tours, 1545 W. Willow Street, Suite A, Long Beach, CA 90810, Grace Menez, Sole Proprietor.

Dated: May 21, 2004.
Bryant L. VanBrakle,
Secretary.

[FR Doc. 04-11920 Filed 5-25-04; 8:45 am]

BILLING CODE 6730-01-P